DEPARTMENT OF THE INTERIOR

National Park Service

[NPS-WASO-CR-16980; PPWOCRADI0, PCU00RP14.R50000 (155)]

Proposed Information Collection; Nomination of Properties for Listing in the National Register of Historic Places

AGENCY: National Park Service, Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. This IC is scheduled to expire on September 30, 2015. We may not conduct or sponsor and a person is not required to respond to a collection unless it displays a currently valid OMB control number.

DATES: To ensure that we are able to consider your comments on this IC, we must receive them by March 30, 2015.

ADDRESSES: Send your comments on the IC to Madonna L. Baucum, Information Collection Clearance Officer, National Park Service, 1849 C Street NW. (Mail Stop 2601), Washington, DC 20240 (mail); or madonna_baucum@nps.gov (email). Please include “1024-0018” in the subject line of your comments.

FOR FURTHER INFORMATION CONTACT: To request additional information about this IC, contact Lisa Deline, NPS Historian, National Register of Historic Places, 1849 C Street NW. (Mail Stop 2280), Washington, DC 20240.

SUPPLEMENTARY INFORMATION:

I. Abstract

The National Register of Historic Places (National Register) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register. National Register properties must be considered in the planning for Federal or federally assisted projects, and listing in the National Register is required for eligibility for Federal rehabilitation tax incentives. The National Park Service administers the National Register. Nominations for listing historic properties come from State Historic Preservation Officers (SHPO), from Federal Preservation Officers (FPO), for properties owned or controlled by the United States Government, and from Tribal Historic Preservation Officers (THPO), for properties on tribal lands. Private individuals and organizations, local governments, and American Indian tribes often initiate this process and prepare the necessary documentation. Regulations at 36 CFR 60 and 63 establish the criteria and guidelines for listing and for determining the eligibility of properties. We use three forms for nominating properties and providing documentation for the proposed listings:

• NPS Form 10-900 (National Register of Historic Places Registration Form).

• NPS Form 10-900-a (National Register of Historic Places Continuation Sheet).

• NPS Form 10-900-b (National Register of Historic Places Multiple Property Documentation Form).

These forms and supporting documentation go to the State Historic Preservation Office (SHPO) of the State [or FPO, or THPO, respectively] where the property is located. The State Historic Preservation Officer, Federal Preservation Officer, or Tribal Historic Preservation Officer can take one of several options: Reject the property, ask for more information, (or in the case of the SHPO, list the property just with the State), or send the forms to us for listing on the National Register. An appeals process is also available to any person or local government for the failure or refusal of a nominating authority to nominate a property. Once NPS receives the forms, NPS conducts a similar review process. Listing on the National Register provides formal recognition of a property's historical, architectural, or archeological significance based on national standards used by every State. The listing places no obligations on private property owners, and there are no restrictions on the use, treatment, transfer, or disposition of private property.

II. Data

OMB Control Number: 1024-001.

Expiration Date: September 30, 2015.

Title: Nomination of Properties for Listing in the National Register of Historic Places, 36 CFR 60 and 63.

Service Form Numbers: NPS 10-900, 10-900-a, and 10-900b.

Type of Request: Extension of a previously approved collection of information.

Description of Respondents: State, tribal, and local governments; businesses; nonprofit organizations; and individuals.

Respondent's Obligation: Required to obtain or retain a benefit.

Frequency of Collection: On occasion.

| Annual respondents | Total annual responses | Avg. time per response (hours) | Total annual burden hours
36 CFR 60 and 63, National Register of Historic Places Registration Form; Continuation Sheet; NR Multiple Property Documentation Form Submitted to State & Local Gov't by Individuals (10-900, 10-900-b and 10-900-a)
Individuals or Households | 15 | 15 | 250 | 3,750
Individual Nominations Submitted to State & Local Gov't by Consultants (Forms 10-900 and 10-900-a)
State, Local, and Tribal Governments | 417 | 417 | 100 | 41,700
Existing Multiple Property Submission Submitted to State & Local Gov't by Consultants (Forms 10-900 and 10-900-a)
State, Local, and Tribal Governments | 18 | 18 | 50 | 900
Newly Proposed MPS Cover Document Submitted to State & Local Gov't by Consultants (Forms 10-900-b and 10-900-a)
State, Local, and Tribal Governments | 15 | 15 | 150 | 2,250
New Nominations Submitted to State & Local Gov't by Consultants (Forms 10-900 and 10-900-a)
Individuals or Households | 417 | 417 | 150 | 62,550
Total | 882 | 882 | 700 | 111,150

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 22, 2015.
Madonna L. Baucum,
Information Collection Clearance Officer, National Park Service.

[FR Doc. 2015-01634 Filed 1-27-15; 8:45 am]

BILLING CODE 4310-EH-P